FEDERAL COMMUNICATIONS COMMISSION

47 CFR Part 73

[DA 02-1372; MM Docket No. 01-131; RM-10148]

Radio Broadcasting Services; Benjamin, TX

AGENCY: Federal Communications Commission.

ACTION: Proposed rule; dismissal.

SUMMARY: This document dismisses the petition for rule making that underlies the Notice of Proposed Rule Making (“Notice”), 66 FR 35406 (July 5, 2001) in this proceeding because the petition is mutually exclusive with a proposal contained in a counterproposal in a prior-filed rulemaking proceeding, namely, Quanah, Texas, MM Docket No. 00-148, and was filed seven months after the deadline for filing counterproposals in the Quanah, Texas, proceeding. Therefore, the rulemaking petition is dismissed as untimely and the proceeding is terminated.

FOR FURTHER INFORMATION CONTACT: R. Barthen Gorman, Media Bureau, (202) 418-2180.

SUPPLEMENTARY INFORMATION: This is a synopsis of the Commission's Report and Order, MM Docket No. 01-131, adopted June 5, 2002, and released June 14, 2002. The full text of this Commission decision is available for inspection and copying during normal business hours in the FCC's Reference Information Center at Portals II, 445 12th Street, SW., Room CY-A257, Washington, DC, 20554. The document may also be purchased from the Commission's duplicating contractor, Qualex International, Portals II, 445 12th Street, SW., Room CY-B402, Washington, DC, 20554, telephone 202 863-2893. facsimile 202 863-2898, or via e-mail qualexint@aol.com.

Federal Communications Commission.
John A. Karousos,
Assistant Chief, Audio Division, Office of Broadcast License Policy, Media Bureau.

[FR Doc. 02-15674 Filed 6-20-02; 8:45 am]

BILLING CODE 6712-01-P